DEPARTMENT OF COMMERCE

Economic Development Administration

Notice of Petitions by Firms for Determination of Eligibility to Apply for Trade Adjustment Assistance

AGENCY: Economic Development Administration, Department of Commerce

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA For Certification of Eligibility To Apply for Trade Adjustment Assistance for the Period
[September 10, 2007 through October 24, 2007]
Firm | Address | Date accepted for filing | Products
T.I. Industries | 40 W. 12th Avenue, Lexington, NC 27292 | 9/25/2007 | Raw materials including wood, veneers, finishing materials, UV cured coating and hot transfer materials are used to manufacture.
Nortic, Inc | 6099 Judd Road, Oriskany, NY 13424-4218 | 9/27/2007 | Plastic injection mold parts, primarily spools.
Tres Bonne, Inc | 3841 First Avenue South, Seattle, WA 98134 | 9/28/2007 | Apparel including work wear, sports and outdoor wear, as well as children's wear. For example, women's and men's gloves, pants.
Rex Plastics, Inc | 12515 NE 95th St., Vancouver, WA 98682 | 9/28/2007 | Manufactures plastic molded products.
Universal Forest Products Western Division, Inc | 2100 Avalon Street, Riverside, CA 92509 | 10/1/2007 | Concrete forming products, decking, railing.
Kings Prosperity L.P | 4001 West Military Highway, McAllen, TX 78503 | 10/1/2007 | Injection molded vacuum cleaner parts.
Comtec Manufacturing Inc | 101 DeLaum Road, St. Marys, PA 15857 | 10/2/2007 | Highly engineered structural powdered metal components.
Technology Design, Inc | 548 S 1470 E, Springville, UT 84663 | 10/2/2007 | Injection molded plastic products.
Michigan Wheel Corporation | 1501 Buchanan Avenue, Grand Rapids, MI 49507 | 10/2/2007 | Boat propellers for pleasure and commercial craft; industrial propellers for mixing and aerating applications.
Teton Homes Corporation | 3283 North 9 Mile Road, Casper, WY 82604 | 10/2/2007 | Travel trailers for housing and camping.
Empire Die Casting | 635 E. Highland Rd., Macedonia, OH 44056-2185 | 10/2/2007 | Aluminum, zinc, and magnesium die castings.
Air Quality Engineering, Inc | 7140 Northland Drive, North Brooklyn, MN 55428 | 10/5/2007 | Sheet metal air cleaners and air filters.
Ernest Thompson & Company, Inc | 4531 Osuna Road, NE, Albuqurque, NM 87109 | 10/7/2007 | Wood furniture and kitchen cabinets.
MET Plastics, Inc | 1701 Lee Street, Elk Grove, IL 60007 | 10/9/2007 | Plastic injection molded products
GAR Products, Inc | 170 Lehigh Avenue, Lakewood, NJ 08701 | 10/11/2007 | Indoor and outdoor chairs for the restaurant and hotel industries.
Jeannette Shade & Novelty Company, Inc. dba | 215 North Fourth Street, Jeannette, PA 15644 | 10/11/2007 | Commercial lighting and decorative glass tile, bowls and sinks.
RIMA Manufacturing Company | 3850 Munson Highway, Hudson, MI 49247 | 10/11/2007 | Valve parts and similar precision turned products.
Sheltech Plastics, Inc | 80 Cambridge Street, Methuen, MA 01844 | 10/16/2007 | Custom vacuum formed and pressure formed plastic products.
The New Mayflower Corporation | 3 Maxson Drive, Old Forge, PA 18518 | 10/17/2007 | Manufactures men's tailored slacks, U.S. Postal uniforms, school uniforms, and US Navy pants for a variety of brand name resellers.
Loudspeaker Commponents, LLC | 7596 U.S. Highway 61, South Lancaster, WI 53813 | 10/17/2007 | Parts of speaker cones and dust caps.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing.

The Catalog of Federal Domestic Assistance official program number and title of the program under which these petitions are submitted is 11.313, Trade Adjustment Assistance.

Dated: October 24, 2007.
William P. Kittredge,
Program Officer for TAA.

[FR Doc. E7-21307 Filed 10-29-07; 8:45 am]

BILLING CODE 3510-24-P